NUCLEAR REGULATORY COMMISSION

[Docket No. 50-390, License No. NPF-50]

Tennessee Valley Authority; Receipt of Request for Action

Notice is hereby given that by petition dated May 30, 2003, Mr. David Lochbaum (petitioner), on behalf of the Union of Concerned Scientists (UCS), has requested that the NRC take action with regard to the Watts Bar Nuclear Plant. The petitioner requested that Tennessee Valley Authority (TVA) be required to provide specific information relating to possible corrosion of the reactor coolant pressure boundary at the Watts Bar Nuclear Plant due to defects in the stainless steel cladding applied to the interior surface of the carbon steel reactor pressure vessel to provide corrosion resistance against the borated water used as reactor coolant. The petitioner also requested that the NRC (a) provide UCS with copies of all correspondence sent to TVA regarding this petition and the subject cladding defects at Watts Bar, (b) provide UCS with advance notice of all public meetings conducted by the agency with TVA regarding this petition and the subject cladding defects, (c) provide UCS with an opportunity to participate in all relevant phone calls between NRC staff and TVA regarding this petition and the subject cladding defects at Watts Bar, and (d) provide UCS with copies of all correspondence sent to Members of Congress and/or industry organizations (e.g., the Nuclear Energy Institute, the Electric Power Research Institute, the Institute for Nuclear Power Operations, etc.).

As the basis for this request, the petitioner states that in its original Safety Evaluation Report issued in 1982, the NRC accepted the defects in the stainless steel cladding on the cold leg nozzles of the Watts Bar reactor pressure vessel. In contrast, the petitioner states that when defects were discovered in the stainless steel cladding of safety injection accumulator tank, in 1993, it was not deemed permissible to leave them “as-is.” Furthermore, the petitioner noted that the NRC issued two bulletins: Bulletin 2001-01, “Circumferential Cracking of Reactor Pressure Head Penetration Nozzles,” dated August 3, 2001, requiring all pressurized-water reactor (PWR) licensees to supply information on the control rod drive mechanism nozzles; and Bulletin 2002-02, “Reactor Pressure Vessel Head and Vessel Head Penetration Nozzles Inspection Programs,” dated August 9, 2002, requiring all PWR licensees to undertake inspections of reactor coolant pressure boundary components and provide information to NRC.

The request is being handled in accordance with Title 10 of the Code of Federal Regulations (10 CFR) § 2.206 of the Commission's regulations. The request has been referred to the Director of the Office of Nuclear Reactor Regulation. As provided by 10 CFR 2.206, appropriate action will be taken on this petition within a reasonable time. The petitioner did not request any immediate action at Watts Bar Nuclear Plant. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR reference staff by telephone at 1-800-397-4209 or 301-415-4737, or by e-mail to pdr@nrc.gov.

Dated at Rockville, Maryland, this 2nd day of July 2003.
For the Nuclear Regulatory Commission.
Samuel J. Collins,
Director, Office of Nuclear Reactor Regulation.

[FR Doc. 03-17334 Filed 7-8-03; 8:45 am]

BILLING CODE 7590-01-P